DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of July 19, 2010 through July 23, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W number | Subject firm | Location | Impact date
72,700 | The H.B. Smith Company, Inc., Leased Workers of Account Temps | Westfield, MA | October 27, 2008.
72,726 | U.S. Textile Corporation, Newland Division | Newland, NC | October 21, 2008.
73,089 | Talbar, Inc. | Meadville, PA | December 11, 2008.
73,205 | Mr. Bruno & Canio, LTD | Brooklyn, NY | December 17, 2008.
73,236 | Xcel Mold & Machine, Inc | North Canton, OH | January 4, 2009.
73,518 | Airmate Company | Bryan, OH | February 16, 2009.
73,818 | Endicott Interconnect Technologies, Inc., Detection & Imaging Systems | Saxonburg, PA | March 26, 2009.
73,952 | Genlyte Thomas Group, LLC | Fall River, MA | April 13, 2009.
74,076 | Feng Sheng Garments, Inc. | San Francisco, CA | May 5, 2009.
74,197 | Kincaid Furniture Company, Inc., Plant 1, Foothills Temporary Employment | Hudson, NC | July 17, 2010.
74,197A | Kincaid Furniture Company, Inc., Corporate Office, Foothills Temporary Employment | Hudson, NC | July 17, 2010.
74,198 | Kincaid Furniture Company, Inc.,, Shipping Department; Leased Workers from Foothills Temporary Employment | Hudson, NC | July 18, 2010.
74,199 | Kincaid Furniture Company, Inc., Plant 9 Lumber Yard; Leased Workers from Foothills Temporary Employment | Hudson, NC | July 18, 2010.

The following certifications have been issued. The requirements of Section 222(a)(2)(B) (shift in production or services) of the Trade Act have been met.

TA-W number | Subject firm | Location | Impact date
72,494 | Hewlett Packard, Electronic Data Systems, LLC; Enterprise Services Division; Leased Workers, etc | Miramar, FL | October 2, 2008.
72,559 | Symmetricom, Inc., Engineering Dept. and IT Dept., Leased Workers Albany Staffing and Office Team | San Jose, CA | October 9, 2008.
72,746 | Merkle-Korff Industries, Leased Workers from Furst Staffing and QTI Group | Darlington, WI | October 21, 2008.
72,806 | 3M Company, Electronic Solutions Division, Leased Workers Volt Workforce Solutions | Soquel, CA | November 3, 2008.
73,534 | U.S. Natural Resources, Inc | Painesville, OH | February 1, 2009.
73,612 | Weiman/Preview, A Division of Interlude Furniture, LLC | Christiansburg, VA | February 22, 2009.
73,817 | Meridian Automotive Systems | Detroit, MI | March 1, 2009.
74,046 | Celestica, Inc., Leased Workers of Adecco Employment Services | San Jose, CA | April 26, 2009.
74,227 | DP/DHL, DHL Information Services (Americas), Leased workers Axway, Inc., Beeline, Cisco, Cognizant Tech Solutions, etc. | Scottsdale, AZ | August 11, 2008.
74,351 | Anthem Insurance Companies, Inc., Subsidiary of Wellpoint, Inc., Admin Serv., Robert Half/Accountemps, etc | Mason, OH | July 1, 2009.
74,351A | Anthem Insurance Companies, Inc., Subsidiary of Wellpoint, Inc., Accounts Payable, etc., Robert Half | Cincinnati, OH | July 1, 2009.
74,367 | Sensata Technologies Inc., Customer Service Organization, Leased Workers from Olsten Staffing Services | Attleboro, MA | June 30, 2009.

The following certifications have been issued. The requirements of Section 222(c) (supplier to a firm whose workers are certified eligible to apply for TAA) of the Trade Act have been met.

TA-W number | Subject firm | Location | Impact date
72,465 | BBI Enterprises Group, Inc | Holland, MI | September 30, 2008.
72,799 | Chrome Craft Corporation, A Wholly Owed Subsidiary of Flex-N-Gate Chrome Corporation | Highland Park, MI | November 6, 2008.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W number | Subject firm | Location | Impact date
74,115 | Qwest Services Corporation and Qwest Communication Company, LLC, Business Marketing Group | Seattle, WA

The investigation revealed that the criteria under paragraphs(a)(2)(A) (increased imports) and (a)(2)(B) (shift in production or services to a foreign country) of section 222 have not been met.

TA-W number | Subject firm | Location | Impact date
72,306 | O'Bryan Bros., Inc | Chicago, IL
72,306A | O'Bryan Bros., Inc | New York, NY
72,486 | Premcor Refining Group, Inc., Valero Energy Corporation; Valero Delaware City Refinery | Delaware City, DE
72,693 | Jim Walter Homes, Inc | Tampa, FL
72,828 | Krieger-Ragsdale | Evansville, IN
73,235 | ALD Thermal Treatment, Inc | Blythewood, SC
73,458 | Chrysler Financial Services Americas, LLC, Finco Intermediate Holding Co., LLC, Troy Customer Contact Center | Troy, MI
73,510 | Liz Claiborne, Distribution Center | Lincoln, RI
73,654 | Bose Corporation, California Avenue | Framingham, MA
73,756 | Progressive Furniture, Inc., Leased Workers from Onin Staffing, a Subsidiary of Sauder Furniture | Claremont, NC
74,106 | Verisk Health | Cheshire, CT

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W number | Subject firm | Location | Impact date
74,004 | Dixie Belle Textiles, Inc | Elkin, NC
74,302 | Innatech LLC | Lebanon, OH
74,388 | Computer Telephony Engineering Corporation | Minnetonka, MN

The following determinations terminating investigations were issued in cases where these petitions were not filed in accordance with the requirements of 29 CFR 90.11. Every petition filed by workers must be signed by at least three individuals of the petitioning worker group. Petitioners separated more than one year prior to the date of the petition cannot be covered under a certification of a petition under Section 223(b), and therefore, may not be part of a petitioning worker group. For one or more of these reasons, these petitions were deemed invalid.

TA-W number | Subject firm | Location | Impact date
72,982 | Hewlett Packard, Working on-site at Ryder Logistics | Indianapolis, IN
74,158 | Cameron Surface Systems | Oklahoma City, OK

The following determinations terminating investigations were issued because the petitioning groups of workers are covered by active certifications. Consequently, further investigation in these cases would serve no purpose since the petitioning group of workers cannot be covered by more than one certification at a time.

TA-W number | Subject firm | Location | Impact date
74,165 | Trinity Tank Car, Inc., Plant #1194 | Longview, TX
74,166 | Trinity Tank Car, Inc., Plant #1110 | Longview, TX
74,167 | Trinity Tank Car, Inc., Plant #17 | Longview, TX

I hereby certify that the aforementioned determinations were issued during the period of July 19, 2010 through July 23, 2010. Copies of these determinations may be requested under the Freedom of Information Act. Requests may be submitted by fax, courier services, or mail to FOIA Disclosure Officer, Office of Trade Adjustment Assistance (ETA), U.S. Department of Labor, 200 Constitution Avenue, NW., Washington, DC 20210 or tofoiarequest@dol.gov. These determinations also are available on the Department's Web site at http://www.doleta.gov/tradeact under the searchable listing of determinations.

Dated: July 27, 2010.
Elliott S. Kushner,
Certifying Officer, Division of Trade Adjustment Assistance.

[FR Doc. 2010-19389 Filed 8-5-10; 8:45 am]

BILLING CODE 4510-FN-P